DEPARTMENT OF ENERGY

Federal Energy Regulatory Commission

[Docket No. EL01-42-000, et al.]

Universal Studios, Inc., et al. Electric Rate and Corporate Regulation Filings

March 5, 2001.

Take notice that the following filings have been made with the Commission:

1. Universal Studios, Inc., v. Southern California Edison

[Docket No. EL01-42-000]

Take notice that on March 2, 2001, Universal Studios, Inc. (Universal), tendered for filing a complaint against Southern California Edison (SCE) pursuant to Rule 206 of the Commission's Rules of Practice and Procedure, 18 CFR 385.206, and section 206 of the Federal Power Act, 16 U.S.C. 824d.

Universal is primarily engaged in the production and distribution of filmed entertainment and recorded music, and in the operation of theme parks and entertainment/retail complexes. Universal purchases power from SCE for its Universal City, California site under an interruptible rate schedule, I-6, and contract.

Universal alleges willful misconduct on the part of SCE involving deliberate under scheduling of power needs, precipitating calls upon Universal to cease taking electric service. Universal seeks a declaration from the Commission that Universal owes no penalties to SCE for failure to interrupt its electrical demand during the relevant period.

Comment date: March 22, 2001, in accordance with Standard Paragraph E at the end of this notice. Answers to the complaint shall also be due on or before March 22, 2001.

2. Public Service Company of New Mexico v. California Power Exchange Corporation

[Docket No. EL01-43-000]

Take notice that on March 2, 2001, Public Service Company of New Mexico (PNM), tendered a Complaint Requesting Fast Track Processing against the California Power Exchange Corporation (PX) pursuant to section 206 of the Federal Power Act, 16 U.S.C. 824e (1994). PNM alleges that the PX is violating the default provisions in its tariff by charging other PX participants for payments owed to the PX by Southern California Edison Company (Edison) and Pacific Gas & Electric Company (PG&E) and by issuing improper notices of default to PX Participants who decline to pay amounts owed by Edison and PG&E. PNM requests that the Commission direct the PX immediately to: (i) Cease applying the chargeback provisions of its tariff; (ii) in the event that the currently-effective Federal district court injunction expires, take no action to issue further default notices pursuant to the chargeback provisions of its tariff; (iii) refund to PNM all amounts it has offset against amounts owed to PNM in violation of the tariff, with interest; and (iv) in the event that the PX issues a default notice to PNM prior to Commission action on this Complaint, to rescind such notice and cease any action to enforce PNM's letter of credit. PNM further requests that its complaint be consolidated with complaints filed in Docket Nos. EL01-36-000 and EL01-37-000, which also address application of the chargeback mechanism by the PX.

Copies of the filing were served upon the PX, the California Public Utilities Commission, and all persons designated on the official service list compiled by the Secretary in Docket Nos. EL00-95-000, et al.

Comment date: March 22, 2001, in accordance with Standard Paragraph E at the end of this notice. Answers to the complaint shall also be filed on or before March 22, 2001.

3. PacifiCorp

[Docket No. ER01-1355-000]

Take notice that on February 28, 2001, PacifiCorp tendered for filing in accordance with 18 CFR 35 of the Commission's Rules and Regulations, a Network Integration Transmission Service Agreement, a Network Operating Agreement, and a Long-Term Firm Point-to-Point Transmission Service Agreement with Deseret Generation and Transmission Cooperative (Deseret) under PacifiCorp's FERC Electric Tariff, Second Revised Volume No. 11 Tariff.

Copies of this filing were supplied to the Washington Utilities and Transportation Commission and the Public Utility Commission of Oregon.

Comment date: March 21, 2001, in accordance with Standard Paragraph E at the end of this notice.

4. Niagara Mohawk Power Corporation, New York State Electric & Gas Corporation, Rochester Gas and Electric Corporation, Central Hudson Gas & Electric Corporation, Constellation Nuclear, LLC, and Nine Mile Point Nuclear Station, LLC

[Docket No. EC01-75-000]

Take notice that on February 28, 2001, Niagara Mohawk Power Corporation (NMPC), New York State Electric & Gas Corporation (NYSEG), Rochester Gas and Electric Corporation (RG&E), Central Hudson Gas & Electric Corporation (CHGEC), Constellation Nuclear, LLC (Nuclear LLC), and Nine Mile Point Nuclear Station, LLC (Nine Mile LLC) (collectively, the Applicants) filed with the Federal Energy Regulatory Commission (Commission) an application pursuant to Section 203 of the Federal Power Act for authorization of a disposition of jurisdictional facilities whereby NMPC will transfer to Nine Mile LLC NMPC's 100% jurisdictional interest in the Nine Mile Point Unit No. 1 nuclear generating station; NMPC, NYSEG, RG&E, and CHGEC will transfer to Nine Mile LLC NMPC's 41% jurisdictional interest, NYSEG's 18% jurisdictional interest, RG&E's 14% jurisdictional interest, CHGEC's 9% jurisdictional interest in Nine Mile Point Unit No. 2 (NMP-2) nuclear generating station; RG&E and CHGEC will transfer to NMPC their respective jurisdictional interests in transmission and interconnection facilities that directly interconnect NMP-2 with NMPC's transmission system; and NMPC will acquire Long Island Lighting Company's interest in the same transmission and interconnection facilities being transferred to NMPC by RG&E and CHGEC. As a result of these dispositions, Nine Mile LLC will own 1,550 MW of Nine Mile Point Nuclear Station's 1,757 MW total generating capacity. These dispositions will be accomplished in a cash sale as set forth and described in the transaction agreements. Applicants have served a copy of this filing on the state commission of New York.

Pursuant to 18 CFR 388.112(b) of the Commission's regulations, Applicants further request confidential treatment for the computer program methodology and electronic CD ROM containing the computer program provided in this application by Mr. Rodney Frame. Finally, Applicants propose to close the sale on or before July 1, 2001, and therefor request expeditious action by the Commission no later than May 15, 2001.

Comment date: April 30, 2001, in accordance with Standard Paragraph E at the end of this notice.

5. Illinois Power Company

[Docket Nos. ER99-4415-006, ER99-4530-005, E100-7-005]

Take notice that on February 26, 2001, Illinois Power Company (Illinois Power), tendered for filing revisions to tariff sheets filing with the Commission on February 9, 2001, in the above-referenced docket.

Comment date: March 19, 2001, in accordance with Standard Paragraph E at the end of this notice.

6. American Electric Power Service Corporation

[Docket No. ER01-741-000]

Take notice that on December 21, 2000, the American Electric Power Service Corporation (AEPSC), tendered for filing executed Interconnection and Operation Agreement between Kentucky Power Company and Riverside Generating Company, LLC, as construction agent for the Lawrence County Riverside Trust 2000. The agreement is pursuant to the AEP Companies' Open Access Transmission Service Tariff (OATT) that has been designated as the Operating Companies of the American Electric Power System FERC Electric Tariff Second Revised Volume No. 6, effective June 15, 2000.

AEP requests an effective date of December 22, 2000.

A copy of the filing was served upon the Kentucky Public Service Commission and the parties to this docket.

Comment date: March 21, 2001, in accordance with Standard Paragraph E at the end of this notice.

7. LG&E Power Monroe LLC

[Docket No. ER01-1310-001]

Take notice that on February 28, 2001, LG&E Power Monroe LLC, (Power Monroe), tendered for filing pursuant to section 205 of the Federal Power Act, and Part 35 of the Commission's Regulations, as supplemented on February 28, 2001 an application for authorization to engage in the sale of electric energy and capacity at market-based rates, waiver of certain Commission regulations, and certain blanket approvals under such regulations. Power Monroe proposes to own and operate three combustion turbine electric generating units in Georgia.

Comment date: March 21, 2001, in accordance with Standard Paragraph E at the end of this notice.

8. Ocean State Power

[Docket No. ER01-1341-000]

Take notice that on February 28, 2001, Ocean State Power (Ocean State), tendered for filing revised pages to its initial rate schedules, which update Ocean State's rate of return on equity (ROE) with respect to Rate Schedule FERC Nos. 1-4.

Ocean State requests an effective date for the rate schedule changes of April 29, 2001.

Copies of the Supplements have been served upon, among others, Ocean State's power purchasers, the Massachusetts Department of Public Utilities, and the Rhode Island Public Utilities Commission.

Comment date: March 21, 2001, in accordance with Standard Paragraph E at the end of this notice.

9. Ocean State Power II

[Docket No. ER01-1342-000]

Take notice that on February 28, 2001, Ocean State Power II (Ocean State II) tendered for filing revised pages to its initial rate schedules, which update Ocean State II's rate of return on equity (ROE) with respect to Rate Schedule FERC Nos. 5-8.

Ocean State II requests an effective date for the rate schedule changes of April 29, 2001.

Copies of the Supplements have been served upon, among others, Ocean State II's power purchasers, the Massachusetts Department of Public Utilities, and the Rhode Island Public Utilities Commission.

Comment date: March 21, 2001, in accordance with Standard Paragraph E at the end of this notice.

10. PJM Interconnection, L.L.C.

[Docket No. ER01-1343-000]

Take notice that on February 28, 2001, PJM Interconnection, L.L.C. (PJM), tendered for filing PJM's FERC Electric Tariff, Fourth Revised Volume No. 1 to conform to the requirements of Designation of Electric Rate Schedule Sheets, Order No. 614, III FERC Stats. & Regs., Regs. Preambles ¶ 31,096 (2000).

Copies of this filing were served via email upon the PJM members, and by hard copy to the state commissions within the PJM control area.

Comment date: March 21, 2001, in accordance with Standard Paragraph E at the end of this notice.

11. Maine Public Service Company

[Docket No. ER01-1344-000]

Take notice that on February 28, 2001, Maine Public Service Company (MPS), tendered for filing pursuant to section 205 of the Federal Power Act and Part 35 of the Commission's Regulations, revisions to its Open Access Transmission Tariff (OATT) to implement a formula for determining the loss factor.

MPS proposes that the OATT revisions become effective March 1, 2002.

Copies of this filing were served on the current customers under the OATT, parties to the Loss Study Settlement Agreement, parties to the settlement in Docket No. ER00-1053-000, the Northern Maine Independent System Administrator, Inc., the Maine Public Utilities Commission, and the Maine Public Advocate.

Comment date: March 21, 2001, in accordance with Standard Paragraph E at the end of this notice.

12. Sacramento Municipal Utility District

[Docket No. ER01-1345-000]

Take notice that on February 28, 2001, the Sacramento Municipal Utility District (SMUD), tendered for filing a Notice of Termination of its Participation Agreement with the California Power Exchange Corporation (PX). SMUD states that it makes this filing from an abundance of caution, as it has already provided termination notice to the PX consistent with the terms of the PX tariff that should be sufficient to effectuate termination.

SMUD requests any waivers as may be necessary to make this termination effective as of 12:01 a.m. PST, February 13, 2001.

Comment date: March 21, 2001, in accordance with Standard Paragraph E at the end of this notice.

13. Lockhart Power Company

[Docket No. ER01-1346-000]

Take notice that on February 28, 2001, Lockhart Power Company (Lockhart), tendered for filing a proposed revision to its FERC Electric Tariff, Original Volume No. 1. Lockhart states that this change will be revenue-neutral.

Lockhart requests that the Commission accept the change effective May 1, 2001.

Copies of this filing have been served upon the city of Union and the South Carolina Public Service Commission.

Comment date: March 21, 2001, in accordance with Standard Paragraph E at the end of this notice.

14. Florida Power Corporation

[Docket No. ER01-1347-000]

Take notice that on February 28, 2001, Florida Power Corporation (FPC), tendered for filing a Short-Form Market-Based Wholesale Power Sales Tariff (Short-Form Tariff). The Short-Form Tariff will not replace FPC's existing market-based rate tariff, FERC Electric Tariff, First Revised Volume No. 8.

FPC requests waiver of the Commission's notice of filing requirement to allow the Short-Form Tariff to become effective March 1, 2001, the day after filing.

Copies of the filing were served upon FPC's existing market-based rate tariff customers and the Florida Public Service Commission.

Comment date: March 21, 2001, in accordance with Standard Paragraph E at the end of this notice.

15. Virginia Electric and Power Company

[Docket No. ER01-1348-000]

Take notice that on February 28, 2001, Virginia Electric and Power Company (Dominion Virginia Power or the Company), tendered for filing a Service Agreement with FirstEnergy Services Corp., for Firm Point-to-Point Transmission Service designated as Service Agreement No. 314 under the Company's FERC Electric Tariff, Second Revised Vol. No. 5.

The foregoing Service Agreements are tendered for filing under the Open Access Transmission Tariff to Eligible Purchasers effective June 7, 2000. Under the tendered Service Agreements, Dominion Virginia Power will provide point-to-point service to FirstEnergy Services Corp. under the rates, terms and conditions of the Open Access Transmission Tariff.

Dominion Virginia Power requests an effective date of February 28, 2001, the date of filing of the Service Agreements.

Copies of the filing were served upon FirstEnergy Services Corp., the Virginia State Corporation Commission, and the North Carolina Utilities Commission.

Comment date: March 21, 2001, in accordance with Standard Paragraph E at the end of this notice.

16. Detroit Edison Company

[Docket No. ER01-1349-000]

Take notice that on February 28, 2001, Detroit Edison Company tendered for filing a letter approving its application for membership in the Western System Power Pool (WSPP).

Detroit Edison Company requests the Commission to allow its membership in the WSPP to become effective on March 1, 2001.

Comment date: March 21, 2001, in accordance with Standard Paragraph E at the end of this notice.

17. Cinergy Services, Inc.

[Docket No. ER01-1350-000]

Take notice that on February 28, 2001, Cinergy Services, Inc. (Provider), tendered for filing a Firm Point-To-Point Service Agreement under Cinergy's Open Access Transmission Service Tariff (OATT) entered into between Provider and Axia Energy, LP (Customer).

Provider and Customer are requesting an effective date of February 23, 2001.

Comment date: March 21, 2001, in accordance with Standard Paragraph E at the end of this notice.

18. Avista Corporation

[Docket No. ER01-1351-000]

Take notice that on February 28, 2001, Avista Corporation (AVA), tendered for filing with the Federal Energy Regulatory Commission pursuant to Section 35.12 of the Commissions, 18 CFR Part 35.12, an executed Service Agreement, Exhibit B, to be assigned Rate Schedule No. 286 for Avista Corporation under AVA's FERC Electric Tariff First Revised Volume No. 9, with PacifiCorp.

AVA requests waiver of the prior notice requirement and requests that the Service Agreement be accepted for filing effective February 21, 2001.

A copy of this filing has been served upon PacifiCorp.

Comment date: March 21, 2001, in accordance with Standard Paragraph E at the end of this notice.

19. Cinergy Services, Inc.

[Docket No. ER01-1352-000]

Take notice that on February 28, 2001, Cinergy Services, Inc. (Provider), tendered for filing a Non-Firm Point-To-Point Service Agreement under Cinergy's Open Access Transmission Service Tariff (OATT) entered into between Cinergy and Axia Energy, LP (Customer).

Provider and Customer are requesting an effective date of February 23, 2001.

Comment date: March 21, 2001, in accordance with Standard Paragraph E at the end of this notice.

20. PacifiCorp

[Docket No. ER01-1353-000]

Take notice that PacifiCorp on February 28, 2001, tendered for filing in accordance with 18 CFR 35 of the Commission's Rules and Regulations, a Network Integration Transmission Service Agreement and a Network Operating Agreement with the Utah Associated Municipal Power Systems (UAMPS) under PacifiCorp's FERC Electric Tariff, Second Revised Volume No. 11 (Tariff).

Copies of this filing were supplied to the Washington Utilities and Transportation Commission and the Public Utility Commission of Oregon.

Comment date: March 21, 2001, in accordance with Standard Paragraph E at the end of this notice.

21. PacifiCorp

[Docket No. ER01-1354-000]

Take notice that on February 28, 2001, PacifiCorp tendered for filing in accordance with 18 CFR 35 of the Commission's Rules and Regulations, a Network Integration Transmission Service Agreement and a Network Operating Agreement with the Utah Municipal Power Agency (UMPA) under PacifiCorp's FERC Electric Tariff, Second Revised Volume No. 11 (Tariff).

Copies of this filing were supplied to the Washington Utilities and Transportation Commission and the Public Utility Commission of Oregon.

Comment date: March 21, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-5983 Filed 3-9-01; 8:45 am]

BILLING CODE 6717-01-P